DEPARTMENT OF HEALTH AND HUMAN SERVICES

National Institutes of Health

National Center for Advancing Translational Sciences; Notice of Closed Meetings

Pursuant to section 10(d) of the Federal Advisory Committee Act, as amended (5 U.S.C. App.), notice is hereby given of the following meetings.

The meetings will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Center for Advancing Translational Sciences Special Emphasis Panel Small Business Innovation Research (SBIR).

Date: March 31, 2015.

Time: 8:00 a.m. to 4:00 p.m.

Agenda: To review and evaluate grant applications.

Place: Bethesda Marriott Suites, 6711 Democracy Boulevard, Bethesda, MD 20817.

Contact Person: Rahat Khan, Ph.D., Scientific Review Officer, Office of Scientific Review, National Center for Advancing Translational Sciences, 6701 Democracy Blvd., Rm 1078, Bethesda, MD 20892, 301-894-7319, khanr2@csr.nih.gov.

Name of Committee: National Center for Advancing Translational Sciences Special Emphasis Panel CTSA Meeting 1.

Date: April 8-9, 2015.

Time: 8:00 a.m. to 5:00 p.m.

Agenda: To review and evaluate grant applications.

Place: Hilton Washington/Rockville 1750 Rockville Pike, Rockville, MD 20852.

Contact Person: Carol Lambert, Ph.D., Acting Deputy Director, Office of Grants Management & Scientific Review, National Center for Advancing Translational Sciences (NCATS) National Institutes of Health, 6701 Democracy Boulevard, Democracy 1, Room 1076, Bethesda, MD 20892, 301-435-0814, lambert@mail.nih.gov.

Name of Committee: National Center for Advancing Translational Sciences Special Emphasis Panel 2015 CTSA Application Review.

Date: April 15-16, 2015.

Time: 8:00 a.m. to 5:00 p.m.

Agenda: To review and evaluate grant applications.

Place: Hilton Washington/Rockville 1750 Rockville Pike, Rockville, MD 20852.

Contact Person: Guo He Zhang, Ph.D., MPH, Scientific Review Office, Office of Grants Management & Scientific Review, National Center for Advancing Translational Sciences (NCATS) National Institutes of Health, 6701 Democracy Boulevard, Democracy 1, Room 1064, Bethesda, MD 20892, 301-435-0812, zhanggu@mail.nih.gov.

(Catalogue of Federal Domestic Assistance Program Nos. 93.859, Pharmacology, Physiology, and Biological Chemistry Research; 93.350, B-Cooperative Agreements; 93.859, Biomedical Research and Research Training, National Institutes of Health, HHS).

Dated: March 3, 2015.
David Clary,
Program Analyst, Office of Federal Advisory Committee Policy.

[FR Doc. 2015-05304 Filed 3-6-15; 8:45 am]

BILLING CODE 4140-01-P